ENVIRONMENTAL PROTECTION AGENCY

[FRL-9631-3]

Notice of Proposed Settlement Agreement and Opportunity for Public Comment: Hidden Lane Landfill Superfund Site

ACTION: Notice.

SUMMARY: In accordance with section 122(i) of the Comprehensive Environmental Response, Compensation and Liability Act of 1980, as amended (“CERCLA”), 42 U.S.C. 9622(h)(i), notice is hereby given of a proposed settlement that is intended to resolve the potential liability under CERCLA of two parties for response costs incurred by the Environmental Protection Agency (“EPA”) or by the United States Department of Justice (“DOJ”) on behalf of EPA, in connection with the Hidden Lane Landfill Superfund Site, Sterling, Loudoun County, Virginia (“Site”).

DATES: Written comments on the proposed settlement agreement must be received by March 14, 2012.

ADDRESSES: Submit your comments, identified by Docket No. CERC-03-2012-0073-CR, by mail to: Docket Clerk (3RC00), United States Environmental Protection Agency, Region III, 1650 Arch Street, Philadelphia, Pennsylvania 19103-2029.

FOR FURTHER INFORMATION CONTACT:

Ben Joseph (3HS22), U.S. EPA, 1650 Arch Street, Philadelphia, PA 19103-2029, Telephone: (215) 814-3373, Fax number (215)814-3002, Email address: ben.joseph@epa.gov.

Patricia C. Miller, U.S. EPA, 1650 Arch Street, Philadelphia, PA 19103-2010, Telephone: (215) 814-2662, Fax Number (215) 814-2603, Email address: miller.patricia-c@epa.gov.

SUPPLEMENTARY INFORMATION:

I. Additional Information About the Proposed Settlement Agreement

Notice is hereby given of a proposed Administrative Settlement Agreement for the Recovery of Response Costs among the United States Environmental Protection Agency, the Estate of Philip W. Smith and the Philip W. Smith Revocable Trust that has been approved, subject to public comment, pursuant to Section 122(h)(1) of CERCLA. The Administrative Settlement Agreement was signed by the Director, Hazardous Site Cleanup Division, U.S. EPA Region III, on January 20, 2012. The proposed settlement provides for recovery of $33,057.67 from the Estate of Philip W. Smith and the Philip W. Smith Revocable Trust, which effectively represents the remaining assets in accounts, to resolve the liability for costs incurred by EPA and DOJ on behalf of EPA in connection the Site. The proposed settlement was approved by the Acting Assistant Attorney General for the Environment and Natural Resources Division of DOJ.

The United States Environmental Protection Agency will receive written comments on the proposed settlement for a period of thirty (30) days from the date of publication of this Notice. EPA or the DOJ may withdraw or withhold consent to the proposed settlement agreement if the comments disclose facts or considerations that indicate that such consent is inappropriate, improper, inadequate, or inconsistent with the requirements of CERCLA. Unless EPA or DOJ determines, based on any comments which may be submitted, that consent to the settlement agreement should be withdrawn, the terms of the agreement will be affirmed.

II. Additional Information About Commenting on the Proposed Settlement Agreement

A. How can I get a copy of the settlement agreement?

A copy of the proposed Settlement Agreement for Recovery of Response Costs may be obtained from the United States Environmental Protection Agency, Region III, Office of Regional Counsel (3RC00), 1650 Arch Street, Philadelphia, Pennsylvania 19103-2029 by contacting Patricia C. Miller, Senior Assistant Regional Counsel, at (215) 814-2662, or via email at miller.patricia-c@epa.gov. It is important to note that it is EPA's policy to make public comments, whether submitted electronically or in paper, available to the public, unless the comment contains copyrighted material, CBI, or other information whose disclosure is restricted by statute.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and email address or other contact information in the body of your comment. This ensures that you can be identified as the submitter of the comment and allows EPA to contact you in case EPA cannot read your comment due to technical difficulties or needs further information on the substance of your comment. Any identifying or contact information provided in the body of a comment will be included as part of the comment. If EPA cannot read your comments due to technical difficulties and cannot contact you for clarification, EPA may not be able to consider your comment.

Dated: January 20, 2012.
Kathryn Hodgkiss,
Acting Director, Hazardous Site Cleanup Division, Region III.

[FR Doc. 2012-3427 Filed 2-13-12; 8:45 am]

BILLING CODE 6560-50-P